DEPARTMENT OF ENERGY

Engineered High Energy Crop Programs Draft Programmatic Environmental Impact Statement, Southeastern United States

AGENCY: Department of Energy.

ACTION: Notice of availability and public hearings.

SUMMARY: The U.S. Department of Energy (DOE) Advanced Research Projects Agency-Energy (ARPA-E) announces the availability of the Engineered High Energy Crop (EHEC) Programs Draft Programmatic Environmental Impact Statement (or Draft PEIS) (DOE/EIS-0481). DOE also announces one in-person public hearing to be held in Washington, DC, and two Web-based public hearings, to receive comments on the Draft PEIS. The Draft PEIS evaluates the potential environmental impacts associated with DOE's Proposed Action to implement one or more programs to catalyze the development and demonstration of crops specifically engineered for increased energy production. A main component of the proposed programs would be providing financial assistance to conduct field trials to test the effectiveness of EHECs in the Southeastern United States, specifically in Alabama, Florida (excluding the Everglades/Southern Florida coastal plain ecoregion), Georgia, Kentucky, Mississippi, North Carolina, South Carolina, Tennessee, and Virginia.

DATES: Comments on the Draft PEIS Notice of Availability (NOA) will be accepted until March 17, 2015. During the public comment period, DOE will host one in-person public hearing and two Web-based public hearings to receive comments on the Draft PEIS. Comments submitted during this public comment period will be considered in preparation of a Final PEIS and used by DOE in its decision-making process for the Proposed Action. DOE will consider late comments to the extent practicable. DOE will conduct public hearings:

• February 17, 2015, from 5:00-7:00 p.m., at the Holiday Inn Washington Capitol, 550 C Street Southwest, Washington, DC 20024.

• February 24, 2015, from 2:00-4:00 p.m., Web-based.

• February 26, 2015, from 2:00-4:00 p.m., Web-based.

Information on how to register for the Web-based public hearings will be available on the DOE EHEC PEIS project Web site (See ADDRESSES section).

ADDRESSES: Written comments on the Draft PEIS may be submitted by any of the following methods:

• EHEC Web site: http://engineeredhighenergycropsPEIS.com

• Email: comments@engineeredhighenergycropsPEIS.com

• Mail: Dr. Jonathan Burbaum, Program Director, ARPA-E, U.S. Department of Energy, ATTN: EHEC PEIS, 1000 Independence Avenue SW., Mailstop-950-8043, Washington, DC 20585. Note: Comments submitted by U.S. Postal Service may be delayed by mail screening.

This NOA, the EPA NOA, and the Draft PEIS will be posted on the DOE NEPA Web site at http://energy.gov/nepa. These documents, and additional materials relating to this Draft PEIS, will also be available on the EHEC PEIS project Web site at: http://engineeredhighenergycropsPEIS.com.

FOR FURTHER INFORMATION CONTACT: For more information on the PEIS, contact Dr. Jonathan Burbaum, Program Director, by one of the methods described in the ADDRESSES section, or by telephone at (202) 287-5453. For general information on the DOE NEPA process, contact Carol Borgstrom, Director, Office of NEPA Policy and Compliance (GC-54), U.S. Department of Energy, 1000 Independence Avenue SW., Washington, DC 20585, or telephone at (202) 586-4600, voicemail at (800) 472-2756, or email at askNEPA@hq.doe.gov. Persons with disabilities who require alternative means for communication (Braille, large print, audio tape, etc.) should contact (800) 877-8339.

SUPPLEMENTARY INFORMATION: The EHEC PEIS (DOE/EIS-0481) is being prepared in accordance with NEPA (42 U.S.C. 4321 et seq.) requirements, the Council on Environmental Quality's NEPA regulations (40 CFR parts 1500-1508), and DOE's NEPA Implementing Procedures (10 CFR part 1021).

The Draft PEIS evaluates the potential environmental impacts of the Proposed Action and alternatives to develop and implement one or more programs to catalyze the research, development, and demonstration of EHECs in the Southeastern United States. EHECs are agriculturally-viable photosynthetic species containing genetic material that has been intentionally introduced through biotechnology, interspecific hybridization, or other engineering processes (excluding processes that occur in nature without human intervention), specifically engineered to increase the amount of energy produced per acre (e.g., improving the photosynthetic process), without increasing the amount of biomass. These approaches are referred to in this PEIS as approaches “independent of increasing the amount of biomass.” A main component of the proposed EHEC Programs would be DOE or other Federal or state agencies providing financial assistance for confined field trials to evaluate the performance of EHECs that could facilitate the commercial development and deployment of biofuels. The field trials would demonstrate the EHEC's biological and economic viability and further DOE ARPA-E's mission. Confined field trials may range in size and could include development scale (up to 5 acres), pilot scale (up to 250 acres), or demonstration scale (up to 15,000 acres). The Draft PEIS evaluates the potential environmental impacts of these scaled alternatives, which reflect the range of reasonable alternatives.

Signed in Washington, DC, this 12th day of January, 2015.
Jonathan Burbaum,
Program Director, Advanced Research Projects Agency-Energy.

[FR Doc. 2015-00601 Filed 1-15-15; 8:45 am]

BILLING CODE 6450-01-P